SMALL BUSINESS ADMINISTRATION

[License No. 02/72-0625]

Founders Equity SBIC I, L.P.; Notice Seeking Exemption Under Section 312 of the Small Business Investment Act, Conflicts of Interest

Notice is hereby given that Founders Equity SBIC I, L.P., 711 Fifth Avenue, 5th Floor, New York, NY 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Founders Equity SBIC I, L.P. proposes to provide equity security financing to CORE Business Technology Solutions, 201 West 103rd Street, Indianapolis, IN 46290. The financing will provide the company with additional capital to fund its acquisition program and working capital requirements.

The financing is brought within the purview of § 107.730(a) of the Regulations because Founders Equity NY, L.P., an Associate of Founders Equity SBIC I, L.P., owns more than ten percent of CORE Business Technology Solutions and therefore CORE Business Technology Solutions is considered an Associate of Founders Equity SBIC I, L.P. as defined in § 107.50 of the Regulations.

Notice is hereby given that any interested person may submit written comments on the transaction to the Associate Administrator for Investment, U.S. Small Business Administration, 409 Third Street, SW., Washington, DC 20416.

Dated: June 9, 2009.
Harry Haskins,
Acting Associate Administrator for Investment.

[FR Doc. E9-14806 Filed 6-23-09; 8:45 am]

BILLING CODE 8025-01-P